DEPARTMENT OF ENERGY

Federal Energy Regulatory Commission

[Docket No. CP10-424-000]

Natural Gas Pipeline Company of America LLC; Notice of Request Under Blanket Authorization

May 11, 2010.

Take notice that on May 6, 2010, Natural Gas Pipeline Company of America LLC (Natural), 3250 Lacey Road, Suite 700, Downers Grove, Illinois 60515, filed in Docket No. CP10-424-000, a prior notice request pursuant to sections 157.205 and 157.208 of the Commission's regulations under the Natural Gas Act (NGA). Natural seeks authorization to acquire from Cheniere Creole Trail Pipeline, L.P., formerly Cheneiere Sabine Pass Pipeline, L.P. (Creole Trail) approximately 1,316 feet of 16-inch diameter pipeline which is part of a lateral connecting Creole Trail's facilities transporting gas from its Sabine Pass LNG Terminal to Natural's pipeline facilities, all in Cameron Parish, Louisiana. On April 29, 2010, Creole Trail filed a separate prior notice request, in Docket No. CP10-256-000, for authorization to abandon the subject facilities under its blanket certificate authority. The cost of the facilities to be acquired by Natural is approximately $363,000. Natural proposes to acquire the facilities under its blanket certificate issued in Docket No. CP82-402-000, all as more fully set forth in the application which is on file with the Commission and open to public inspection.

The filing may be viewed on the Web at http://www.ferc.gov using the “eLibrary” link. Enter the docket number excluding the last three digits in the docket number field to access the document. For assistance, contact FERC at FERCOnlineSupport@ferc.gov or call toll-free, (886) 208-3676 or TYY, (202) 502-8659.

Any questions regarding this application may be directed to Bruce H. Newsome, Vice President, Regulatory Products and Services, Natural Gas Pipeline Company of America LLC, 3250 Lacey Road, 7th Floor, Downers Grove, Illinois 60515-7918, or via telephone at (630) 725-3070, or by e-mail at bruce_newsome@kindermorgan.com.

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link. Persons unable to file electronically should submit an original and 14 copies of the protest or intervention to the Federal Energy Regulatory Commission, 888 First Street, NE., Washington, DC 20426.

Kimberly D. Bose,
Secretary.

[FR Doc. 2010-11794 Filed 5-17-10; 8:45 am]

BILLING CODE 6717-01-P